DEPARTMENT OF DEFENSE

Office of the Secretary

Defense Advisory Committee on Military Personnel Testing

AGENCY: Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces the following Federal Advisory Committee Meeting of the Defense Advisory Committee on Military Personnel Testing.

DATES: Wednesday, August 21, 2008 (8:30 a.m. to 4 p.m.) and Thursday, August 22, 2008 (8:30 a.m. to 12 p.m.).

ADDRESSES: The meeting will be held at the Hyatt Regency Rochester, 125 East Main Street, Rochester, NY 14604.

FOR FURTHER INFORMATION CONTACT: Dr. Jane Arabian, (703) 697-9271.

SUPPLEMENTARY INFORMATION: Purpose of the Meeting: The purpose of the meeting is to review planned changes and progress in developing computerized and paper-and-pencil enlistment tests.

Agenda: The agenda includes an overview of current enlistment test development timelines and planned research for the next three years. In addition, the recently completed Initial Operational Test and Evaluation results for new test forms will be presented to the Committee for their review and implementation recommendations.

Public's Accessibility to the Meeting: Pursuant to 5 U.S.C. 552b and 41 CFR 102-3.140 through 102-3.165, and the availability of space, this meeting is open to the public.

Committee's Designated Federal Officer or Point of Contact: Dr. Jane M. Arabian, Assistant Director, Accession Policy, Office of the Under Secretary of Defense (Personnel and Readiness), Room 2B271, The Pentagon, Washington, DC 20301-4000, telephone (703) 697-9271.

Persons desiring to make oral presentations or submit written statements for consideration at the Committee meeting must contact Dr. Jane M. Arabian at the address or telephone number above no later than August 8, 2008.

Dated: July 11, 2008.
Patricia L. Toppings,
OSD Federal Register Liaison Officer, Department of Defense.

[FR Doc. E8-16418 Filed 7-17-08; 8:45 am]

BILLING CODE 5001-06-P